FEDERAL COMMUNICATIONS COMMISSION

Notice of Public Information Collection(s) Being Reviewed by the Federal Communications Commission for Extension Under Delegated Authority, Comments Requested

October 1, 2010.

SUMMARY: The Federal Communications Commission, as part of its continuing effort to reduce paperwork burden invites the general public and other Federal agencies to take this opportunity to comment on the following information collection(s), as required by the Paperwork Reduction Act of 1995, 44 U.S.C. 3501-3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before December 13, 2010. If you anticipate that you will be submitting comments, but find it difficult to do so within the period of time allowed by this notice, you should advise the contact listed below as soon as possible.

ADDRESSES: Direct all PRA comments to Nicholas A. Fraser, Office of Management and Budget (OMB), via fax at 202-395-5167, or via the Internet at Nicholas_A._Fraser@omb.eop.gov and to Federal Communications Commission (FCC) via e-mail to: PRA@fcc.gov.

To view a copy of this information collection request (ICR) submitted to OMB: (1) Go to the Web page http://www.reginfo.gov/public/do/PRAMain, (2) look for the section of the web page called “Currently Under Review”, (3) click the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman, OMD, on 202-418-0214 or e-mail Judith-b.herman@fcc.gov.

SUPPLEMENTARY INFORMATION: OMB Control Number: 3060-0814.

Title: Section 54.301(a)-(f), Local Switching Support and Local Switching Support Data Collection.

Form No.: N/A.

Type of Review: Extension of a currently approved collection.

Respondents: Business or other for-profit.

Number of Respondents: 175 respondents; 175 responses.

Estimated Time per Response: .50 hours-24 hours.

Frequency of Response: Annual and on occasion reporting requirement and third party disclosure requirement.

Obligation to Respond: Required to obtain or retain benefits. Statutory authority for this information collection is contained in 47 U.S.C. 151-154, 201-205, 218-220, 214, 254, 303(r), 403 and 410.

Total Annual Burden: 3,778 hours.

Total Annual Cost: N/A.

Privacy Act Impact Assessment: N/A.

Nature and Extent of Confidentiality: This collection does not request information of a confidential nature.

Needs and Uses: The Commission will submit this expiring information collection to the Office of Management and Budget (OMB) after this 60-day comment period in order to obtain the full three year clearance from them. The Commission is requesting an extension (no change in the reporting and/or third party disclosure requirements) of this information collection. There is an adjustment increase in burden of 810 hours. This increase is due to an increase in respondents/responses.

Pursuant to section 54.301 of the Commission's rules, each incumbent local exchange carrier that is not a member of the National Exchange Carrier Association (NECA), common line tariff, that has been designated an eligible telecommunications carrier (ETC), and that services a study area with 50,000 or fewer access lines shall, for each study area, provide the Administrator with the projected total un-separated dollar amount assigned to each account in section 54.301(b). Average schedule companies are required to file information pursuant to section 54.301(f). Both types of respondents must provide true-up data. The data are necessary to calculate certain revenue requirements.

OMB Control Number: 3060-1000.

Title: Section 87.147, Authorization of Equipment.

Form No.: N/A.

Type of Review: Extension of a currently approved collection.

Respondents: Business or other for-profit.

Number of Respondents: 25 respondents; 25 responses.

Estimated Time per Response: 1 hour.

Frequency of Response: On occasion and one time reporting requirements and third party disclosure requirement.

Obligation to Respond: Required to obtain or retain benefits. Statutory authority for this information collection is contained in 47 U.S.C. 154, 303 and 307(e).

Total Annual Burden: 25 hours.

Total Annual Cost: N/A.

Privacy Act Impact Assessment: N/A.

Nature and Extent of Confidentiality: The Commission is not requesting respondents to submit confidential information to the Commission.

Needs and Uses: The Commission will submit this expiring information collection to the Office of Management and Budget (OMB) after this 60-day comment period in order to obtain the full three year clearance from them. The Commission is requesting an extension (no change in the reporting and/or third party disclosure requirements) of this information collection. There is no change in the Commission's burden estimates.

Section 87.147 is needed to require applicants for aviation equipment certification to submit a Federal Aviation Administration (FAA) determination of the equipment's compatibility with the National Airspace System (NAS). This will ensure that the radio equipment operating in certain frequencies is compatible with the NAS, which shares system components with the military. The notification must describe the equipment, give the manufacturer's identification, antenna characteristics, rated output power, emission type and characteristics, the frequency or frequencies of operation, and essential receiver characteristics if protection is required.

The information collected is used by FCC engineers to determine the interference potential of the proposed operation.

OMB Control Number: 3060-0470.

Title: Section 64.901, Allocation of Cost and Section 64.903, Cost Allocation Manuals; and RAO Letters 19 and 26.

Form No.: N/A.

Type of Review: Extension of a currently approved collection.

Respondents: Business or other for-profit.

Number of Respondents: 1 respondent; 2 responses.

Estimated Time per Response: 200 hours.

Frequency of Response: Annual and on occasion reporting requirement.

Obligation to Respond: Required to obtain or retain benefits. Statutory authority for this information collection is contained in 47 U.S.C. 151, 154, 201-205, 215, and 218-220.

Total Annual Burden: 400 hours.

Total Annual Cost: N/A.

Privacy Act Impact Assessment: N/A.

Nature and Extent of Confidentiality: There is no need for confidentiality.

Needs and Uses: The Commission will submit this expiring information collection to the Office of Management and Budget (OMB) after this 60-day comment period in order to obtain the full three year clearance from them. The Commission is requesting an extension (no change in the reporting, recordkeeping and/or third party disclosure requirements) of this information collection. The Commission is reporting a decrease of 2,000 hours in total annual burden. This decrease adjustment is due to an Order, FCC 08-12, which granted numerous carriers forbearance from compliance to the relevant rules. The number of respondents decreased from six to one.

Section 64.901 requires carriers to separate their regulated costs from nonregulated costs using the attributable cost method of cost allocation. Carriers must follow the principles described in 47 CFR 64.901.

Section 64.903(a) requires Local Exchange Carriers (LECs) with annual operating revenues equal to or above the indexed revenue threshold as defined in 47 CFR 32.9000 to file a cost allocation manual (CAM). Section 64.903(b) requires that carriers update their cost allocation manuals at least annually, except that changes to the cost apportionment table and the description of time reporting procedures must be filed at the time of implementation. The FCC uses the manuals to ensure that all costs are properly classified.

Filing of cost allocation manuals and occasional updates are subject to the uniform format and standard procedures specified in Responsible Accounting Officer (RAO) Letter 19. RAO Letter 26 provides guidance to carriers in revising their CAMs to reflect changes to affiliate transactions rules pursuant to the Accounting Safeguard Order (FCC 96-490).

The CAM is reviewed by Commission staff to ensure that all costs are properly classified between regulated and non-regulated activity. Uniformity in the CAMs helps improve the joint cost allocation process. In addition, the uniformity gives the Commission greater reliability in financial data submitted by the carriers through the Automated Reporting Management Information System (ARMIS).

Federal Communications Commission.
Marlene H. Dortch,
Secretary.

[FR Doc. 2010-25602 Filed 10-8-10; 8:45 am]

BILLING CODE 6712-01-P